DEPARTMENT OF ENERGY

Federal Energy Regulatory Commission

Combined Notice of Filings #1

Take notice that the Commission received the following exempt wholesale generator filings:

Docket Numbers: EG23-112-000.

Applicants: AES ES Westwing, LLC.

Description: AES ES Westwing, LLC submits Notice of Self-Certification of Exempt Wholesale Generator Status.

Filed Date: 3/31/23.

Accession Number: 20230331-5448.

Comment Date: 5 p.m. ET 4/21/23.

Take notice that the Commission received the following electric rate filings:

Docket Numbers: ER10-1776-007.

Applicants: Leaning Juniper Wind Power II LLC.

Description: Compliance filing: Compliance Filing to Reflect Participation in the CAISO's Western EIM to be effective 3/24/2023.

Filed Date: 3/31/23.

Accession Number: 20230331-5198.

Comment Date: 5 p.m. ET 4/21/23.

Docket Numbers: ER10-2824-007.

Applicants: Big Horn Wind Project LLC.

Description: Compliance filing: Compliance Filing to Reflect Participation in the CAISO's Western EIM to be effective 3/24/2023.

Filed Date: 3/31/23.

Accession Number: 20230331-5128.

Comment Date: 5 p.m. ET 4/21/23.

Docket Numbers: ER10-2825-008.

Applicants: Big Horn II Wind Project LLC.

Description: Compliance filing: Compliance Filing to Reflect Participation in the CAISO's Western EIM to be effective 3/24/2023.

Filed Date: 3/31/23.

Accession Number: 20230331-5138.

Comment Date: 5 p.m. ET 4/21/23.

Docket Numbers: ER10-2957-008.

Applicants: Hay Canyon Wind LLC.

Description: Compliance filing: Compliance Filing to Reflect Participation in the CAISO's Western EIM to be effective 3/24/2023.

Filed Date: 3/31/23.

Accession Number: 20230331-5152.

Comment Date: 5 p.m. ET 4/21/23.

Docket Numbers: ER10-2995-008.

Applicants: Juniper Canyon Wind Power LLC.

Description: Compliance filing: Compliance Filing to Reflect Participation in the CAISO's Western EIM to be effective 3/24/2023.

Filed Date: 3/31/23.

Accession Number: 20230331-5156.

Comment Date: 5 p.m. ET 4/21/23.

Docket Numbers: ER10-2996-007.

Applicants: Klamath Energy LLC.

Description: Compliance filing: Compliance Filing to Reflect Participation in the CAISO's Western EIM to be effective 3/24/2023.

Filed Date: 3/31/23.

Accession Number: 20230331-5169.

Comment Date: 5 p.m. ET 4/21/23.

Docket Numbers: ER10-2999-007.

Applicants: Klondike Wind Power LLC.

Description: Compliance filing: Compliance Filing to Reflect Participation in the CAISO's Western EIM to be effective 3/24/2023.

Filed Date: 3/31/23.

Accession Number: 20230331-5178.

Comment Date: 5 p.m. ET 4/21/23.

Docket Numbers: ER10-3000-007.

Applicants: Klondike Wind Power II LLC.

Description: Compliance filing: Compliance Filing to Reflect Participation in the CAISO's Western EIM to be effective 3/24/2023.

Filed Date: 3/31/23.

Accession Number: 20230331-5188.

Comment Date: 5 p.m. ET 4/21/23.

Docket Numbers: ER10-3009-009.

Applicants: Pebble Springs Wind LLC.

Description: Compliance filing: Compliance Filing to Reflect Participation in the CAISO's Western EIM to be effective 3/24/2023.

Filed Date: 3/31/23.

Accession Number: 20230331-5205.

Comment Date: 5 p.m. ET 4/21/23.

Docket Numbers: ER10-3013-008.

Applicants: Star Point Wind Project LLC.

Description: Compliance filing: Compliance Filing to Reflect Participation in the CAISO's Western EIM to be effective 3/24/2023.

Filed Date: 3/31/23.

Accession Number: 20230331-5216.

Comment Date: 5 p.m. ET 4/21/23.

Docket Numbers: ER10-3029-007.

Applicants: Klondike Wind Power III LLC.

Description: Compliance filing: Compliance Filing to Reflect Participation in the CAISO's Western EIM to be effective 3/24/2023.

Filed Date: 3/31/23.

Accession Number: 20230331-5193.

Comment Date: 5 p.m. ET 4/21/23.

Docket Numbers: ER16-1250-018.

Applicants: Avangrid Renewables, LLC.

Description: Compliance filing: Compliance Filing to Reflect Participation in the CAISO's Western EIM to be effective 3/24/2023.

Filed Date: 3/31/23.

Accession Number: 20230331-5073.

Comment Date: 5 p.m. ET 4/21/23.

Docket Numbers: ER19-2360-006.

Applicants: Montague Wind Power Facility, LLC.

Description: Compliance filing: Compliance Filing to Reflect Participation in the CAISO's Western EIM to be effective 3/24/2023.

Filed Date: 3/31/23.

Accession Number: 20230331-5006.

Comment Date: 5 p.m. ET 4/21/23.

Docket Numbers: ER20-1128-001.

Applicants: Black Hills Power, Inc.

Description: Compliance filing: Order No. 864 Supplemental Compliance Filing to be effective 1/27/2020.

Filed Date: 3/31/23.

Accession Number: 20230331-5439.

Comment Date: 5 p.m. ET 4/21/23.

Docket Numbers: ER21-2272-005.

Applicants: Golden Hills Wind Farm, LLC.

Description: Compliance filing: Compliance Filing to Reflect Participation in the CAISO's Western EIM to be effective 3/24/2023.

Filed Date: 3/31/23.

Accession Number: 20230331-5003.

Comment Date: 5 p.m. ET 4/21/23.

Docket Numbers: ER21-2748-004.

Applicants: Lund Hill Solar, LLC, Bracewell LLP.

Description: Compliance filing: Lund Hill Solar, LLC submits tariff filing per 35: Compliance Filing to Reflect Participation in the CAISO's Western EIM to be effective 3/24/2023.

Filed Date: 3/31/23.

Accession Number: 20230331-5004.

Comment Date: 5 p.m. ET 4/21/23.

Docket Numbers: ER21-2847-005.

Applicants: Montague Solar, LLC.

Description: Compliance filing: Compliance Filing to Reflect Participation in the CAISO's Western EIM to be effective 3/24/2023.

Filed Date: 3/31/23.

Accession Number: 20230331-5005.

Comment Date: 5 p.m. ET 4/21/23.

Docket Numbers: ER22-616-003.

Applicants: Dressor Plains Solar, LLC.

Description: Compliance filing: Compliance Filing ER22-616-000 to be effective 2/1/2022.

Filed Date: 3/31/23.

Accession Number: 20230331-5108.

Comment Date: 5 p.m. ET 4/21/23.

Docket Numbers: ER22-962-002.

Applicants: PJM Interconnection, L.L.C.

Description: Compliance filing: Order No. 2222 30-Day Compliance Filing to be effective 2/2/2026.

Filed Date: 3/31/23.

Accession Number: 20230331-5248.

Comment Date: 5 p.m. ET 4/21/23.

Docket Numbers: ER22-2173-004.

Applicants: Bakeoven Solar, LLC.

Description: Compliance filing: Compliance Filing to Reflect Participation in the CAISO's Western EIM to be effective 3/24/2023.

Filed Date: 3/31/23.

Accession Number: 20230331-5001.

Comment Date: 5 p.m. ET 4/21/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2023.
Debbie-Anne A. Reese,
Deputy Secretary.

[FR Doc. 2023-07222 Filed 4-5-23; 8:45 am]

BILLING CODE 6717-01-P